DEPARTMENT OF HEALTH AND HUMAN SERVICES

45 CFR Part 98

RIN 0970-AD02

Improving Child Care Access, Affordability, and Stability in the Child Care and Development Fund (CCDF); Corrections

AGENCY: Office of Child Care (OCC), Administration for Children and Families (ACF), Department of Health and Human Services (HHS).

ACTION: Correcting amendments.

SUMMARY: On March 1, 2024, the Department of Health and Human Services published a final rule to improve child care access, affordability, and stability in the Child Care and Development Fund. Some amendments in the final rule could not be incorporated due to technical inaccuracies in the instructions. Additionally, that document inadvertently failed to update certain amended cross-references. This document makes technical changes to correct the final regulations.

DATES: Effective on June 24, 2024.

FOR FURTHER INFORMATION CONTACT: Megan Campbell, Office of Child Care, 202-690-6499 or megan.campbell@acf.hhs.gov.

SUPPLEMENTARY INFORMATION: The “Improving Child Care Access, Affordability, and Stability in the Child Care and Development Fund (CCDF)” rule, published at 89 FR 15366 on March 1, 2024, included inaccurate amendatory instructions for § 98.16 and inadvertently failed to update certain amended cross-references. This document corrects the final regulations.

List of Subjects in 45 CFR Part 98

Child care, Grant programs—social programs.

Accordingly, 45 CFR part 98 is corrected by making the following correcting amendments:

PART 98—CHILD CARE AND DEVELOPMENT FUND

1. The authority citation for part 98 continues to read as follows:

Authority: 42 U.S.C. 618, 9858.

2. Amend § 98.2 by revising the definition of Sliding fee scale to read as follows:

§ 98.2 Definitions.

* * * * *

Sliding fee scale means a system of cost-sharing by a family based on income and size of the family, in accordance with § 98.45(l);

* * * * *

3. Amend § 98.16 by:

a. Revising paragraph (x);

b. Redesignating paragraphs (y) through (ii) as paragraphs (bb) through (ll);

c. Adding new paragraphs (y) through (aa); and

d. Revising newly redesignated paragraphs (ee), (ff), and (kk).

The additions and revisions read as follows:

§ 98.16 Plan revisions.

* * * * *

(x) A description of the supply of child care available regardless of subsidy participation relative to the population of children requiring child care, including care for infants and toddlers, children with disabilities as defined by the Lead Agency, children who receive care during nontraditional hours, and children in underserved geographic areas, including the data sources used to identify shortages in the supply of child care providers;

(y) A description of the Lead Agency's strategies and the actions it will take to address the supply shortages identified in paragraph (x) of this section and improve parent choice specifically for families eligible to participate in CCDF, including:

(1) For families needing care during nontraditional hours, which may include strategies such as higher payment rates, engaging with home-based child care networks, partnering with employers that have employees working nontraditional hours, and grants or contracts for direct services;

(2) For families needing infant and toddler care, which must include grants or contracts for direct services pursuant to § 98.30(b) and described further in paragraph (z) of this section and may include additional strategies such as enhanced payment rates, training and professional development opportunities for the child care workforce, and engaging with staffed family child care networks and/or child care provider membership organizations;

(3) For families needing care for children with disabilities, which must include grants or contracts for direct services pursuant to § 98.30(b) and described further in paragraph (z) of this section and may include additional strategies such as enhanced payment rates, training and professional development opportunities for the child care workforce, and engaging with staffed family child care networks and/or child care provider membership organizations;

(4) For families in underserved geographic areas, which must include grants or contracts for direct services pursuant to § 98.30(b) and described further in paragraph (z) of this section and may include additional strategies such as enhanced payment rates, training and professional development opportunities for the child care workforce, and engaging with staffed family child care networks and/or child care provider membership organizations; and,

(5) A method of tracking progress toward goals to increase supply and support equal access and parental choice;

(z) A description of how the Lead Agency will use grants or contracts for direct services to achieve supply building goals for children in underserved geographic areas, infants and toddlers, children with disabilities as defined by the Lead Agency, and, at Lead Agency option, children who receive care during nontraditional hours. This must include a description of the proportion of the shortages for these groups would be filled by contracted or grant funded slots. Lead Agencies must continue to provide CCDF families the option to choose a certificate for the purposes of acquiring care;

(aa) A description of how the Lead Agency will improve the quality of child care services for children in underserved geographic areas, infants and toddlers, children with disabilities as defined by the Lead Agency, and children who receive care during nontraditional hours;

* * * * *

(ee) A description of generally-accepted payment practices applicable to providers of child care services for which assistance is provided under this part, pursuant to § 98.45(m), including practices to ensure timely payment for services, to delink provider payments from children's occasional absences to the extent practicable, cover mandatory fees, and pay based on a full or part-time basis;

(ff) A description of internal controls to ensure integrity and accountability, processes in place to investigate and recover fraudulent payments and to impose sanctions on clients or providers in response to fraud, and procedures in place to document and verify eligibility, pursuant to § 98.68;

* * * * *

(kk) A description of how the Lead Agency will respond to complaints submitted through the national hotline and website, required in section 658L(b) of the CCDBG Act of 2014 (42 U.S.C.9858j(b)), including the designee responsible for receiving and responding to such complaints regarding both licensed and license-exempt child care providers; and

* * * * *

4. Amend § 98.21 by revising paragraph (b)(3) to read as follows:

§ 98.21 Eligibility determination processes.

(b) * * *

(3) A family meeting the conditions described in paragraph (b)(2) of this section shall be eligible for services pursuant to the conditions described in § 98.20 and all other paragraphs of this section, with the exception of the co-payment restrictions at paragraph (a)(3) of this section. To help families transition off of child care assistance, Lead Agencies may gradually adjust co-pay amounts for families whose children are determined eligible under the graduated phase-out conditions described in paragraph (b)(2) and may require additional reporting on changes in family income as described in paragraph (h)(3) of this section, provided such requirements do not constitute an undue burden, pursuant to conditions described in paragraphs (h)(2)(ii) and (iii) of this section.

* * * * *

5. Amend § 98.50 by revising paragraphs (a)(2) and (c)(2) to read as follows:

§ 98.50 Child care services.

(a) * * *

(2) Using a sliding fee scale, as described in § 98.45(l);

* * * * *

(c) * * *

(2) Must include measurable indicators of progress in accordance with § 98.53(g); and

* * * * *

6. Amend § 98.53 by revising paragraph (a) introductory text to read as follows:

§ 98.53 Activities to improve the quality of child care.

(a) The Lead Agency must expend funds from each fiscal year's allotment on quality activities pursuant to §§ 98.50(b) and 98.83(g) in accordance with an assessment of need by the Lead Agency. Such funds must be used to carry out at least one of the following quality activities to improve the quality of child care services for all children, regardless of CCDF receipt, in accordance with paragraph (e) of this section:

* * * * *

7. Amend § 98.55 by revising paragraphs (g)(2) and (i) to read as follows:

§ 98.55 Matching fund requirements.

* * * * *

(g) * * *

(2) Family contributions to the cost of care as required by § 98.45(l).

* * * * *

(i) Matching funds are subject to the obligation and liquidation requirements at § 98.60(d)(4).

8. Amend § 98.60 by revising paragraph (d)(5) introductory text to read as follows:

§ 98.60 Availability of funds.

* * * * *

(d) * * *

(5) Except for paragraph (d)(6) of this section, determination of whether funds have been obligated and liquidated will be based on:

* * * * *

9. Amend § 98.70 by revising paragraph (d)(3) to read as follows:

§ 98.70 Reporting requirements.

* * * * *

(d) * * *

(3) Annual quality progress reports under § 98.53(g).

10. Amend § 98.83 by revising paragraph (d)(1)(xii) to read as follows:

§ 98.83 Requirements for tribal programs.

* * * * *

(d) * * *

(1) * * *

(xii) The requirement to complete the quality progress report at § 98.53(g);

* * * * *

Elizabeth J. Gramling,
Executive Secretary, Department of Health and Human Services.

[FR Doc. 2024-13716 Filed 6-21-24; 8:45 am]

BILLING CODE P